ENVIRONMENTAL PROTECTION AGENCY

[Docket# EPA-RO4-SFUND-2011-0557, FRL-9427-7]

Sikes Oil Service; Arcade, Jackson County, GA; Notice of Settlement

AGENCY: Environmental Protection Agency.

ACTION: Notice of settlement.

SUMMARY: Under Section 122(h)(1) of the Comprehensive Environmental Response, Compensation and Liability Act (CERCLA), the United States Environmental Protection Agency has entered into a settlement for reimbursement of past response costs concerning the Sikes Oil Service Superfund Site located in Arcade, Jackson County, Georgia for publication.

DATES: The Agency will consider public comments on the settlement until August 1, 2011. The Agency will consider all comments received and may modify or withdraw its consent to the settlement if comments received disclose facts or considerations which indicate that the settlement is inappropriate, improper, or inadequate.

ADDRESSES: Copies of the settlement are available from Ms. Paula V. Painter. Submit your comments, identified by Docket ID No. EPA-RO4-SFUND-2011-0557 or Site name Sikes Oil Service Superfund Site by one of the following methods:

• http://www.regulations.gov: Follow the on-line instructions for submitting comments.

• http://www.epa.gov/region4/waste/sf/enforce.htm.

• E-mail. Painter.Paula@epa.gov.

FOR FURTHER INFORMATION CONTACT: Paula V. Painter at 404/562-8887.

Dated: June 13, 2011.
Anita L. Davis,
Chief, Superfund Enforcement & Information Management Branch, Superfund Division.

[FR Doc. 2011-16631 Filed 6-30-11; 8:45 am]

BILLING CODE 6560-50-P